NUCLEAR REGULATORY COMMISSION

[NRC-2021-0045]

Information Collection: NRC Forms 542 and 542A, Uniform Low-Level Radioactive Waste Manifest Index and Regional Compact Tabulation and Continuation Page

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “NRC Forms 542 and 542A, Uniform Low-Level Radioactive Waste Manifest Index and Regional Compact Tabulation and Continuation Page.”

DATES: Submit comments by December 23, 2022. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David C. Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2021-0045 when contacting the NRC about the availability of information for this action. You may obtain publicly available information related to this action by any of the following methods:

• Federal Rulemaking Website: Go to https://www.regulations.gov and search for Docket ID NRC-2021-0045.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. A copy of the NRC Forms 542 and 542A and related instructions may be obtained without charge by accessing ADAMS Accession Nos. ML22132A261, ML22132A262, and ML20178A433, respectively. The supporting statement is available in ADAMS under Accession No. ML22301A003.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• NRC's Clearance Officer: A copy of the collection of information and related instructions may be obtained without charge by contacting the NRC's Clearance Officer, David C. Cullison, Office of the Chief Information Officer, U.S. Nuclear Regulatory Commission, Washington, DC 20555-0001; telephone: 301-415-2084; email: Infocollects.Resource@nrc.gov.

B. Submitting Comments

Written comments and recommendations for the proposed information collection should be sent within 30 days of publication of this notice to https://www.reginfo.gov/public/do/PRAMain. Find this particular information collection by selecting “Currently under Review—Open for Public Comments” or by using the search function.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “NRC Forms 542 and 542A, Uniform Low-Level Radioactive Waste Manifest Index and Regional Compact Tabulation and Continuation Page.” The NRC hereby informs potential respondents that an agency may not conduct or sponsor, and that a person is not required to respond to, a collection of information unless it displays a currently valid OMB control number.

The NRC published a Federal Register notice with a 60-day comment period on this information collection on August 10, 2022 (87 FR 48699).

1. The title of the information collection: NRC Forms 542 and 542A, Uniform Low-Level Radioactive Waste Manifest Index and Regional Compact Tabulation and Continuation Page.

2. OMB approval number: 3150-0165.

3. Type of submission: Extension.

4. The form number, if applicable: NRC Forms 542 and 542A.

5. How often the collection is required or requested: NRC Form 542 and 542A, or the Agreement State equivalent forms, are used by low-level radioactive waste (LLW) collectors and processors that are shipping LLW attributed to others for disposal at a licensed land disposal facility. NRC Form 542/542A, combined with NRC Forms 540/540A and 541/541A, are collectively referred to as the Uniform Low-Level Radioactive Waste Manifest forms. The disposal facilities and their Agreement State regulators, where applicable, use the information found on the forms to ensure waste disposal meets the requirements in part 61 of title 10 of the Code of Federal Regulations (10 CFR) for the protection of the public and environment. The NRC does not collect or retain data on the forms and the forms are not sent to or received by the NRC. NRC Form 541/541A and NRC Form 542/542A are (1) mailed or electronically transferred to the intended consignee prior to the shipment arriving at the consignee or (2) delivered with the waste to the consignee. NRC Form 540 and 540A are required to be with the shipment regardless of which of the above methods is chosen.

6. Who will be required or asked to respond: NRC Form 542 and continuation Form 542A are completed by collectors and processors of LLW intended for ultimate disposal at a licensed land disposal facility.

7. The estimated number of annual responses: 623.

8. The estimated number of annual respondents: 71.

9. The estimated number of hours needed annually to comply with the information collection requirement or request: 467.

10. Abstract: The NRC Form 542, completed by LLW collectors and processors, contains information needed to satisfy the waste manifesting requirements of the NRC's 10 CFR part 20 and information on the attribution of the waste. Each waste container shipped from a waste collector or processor may contain waste from several different generators. Tracking the identity of the original waste generator becomes more complicated when the waste forms, dimensions, or packaging are changed by the waste processor. These forms are used to attribute the waste to the original generator for regional waste compact tabulation. The information provided on the NRC Form 542 permits the States and Compacts to know the original generators of LLW, as authorized by the Low-Level Radioactive Waste Policy Amendments Act of 1985, so they can ensure that waste is disposed of in the appropriate Compact. NUREG/BR-0204, Rev. 3, contains instructions for completing NRC Forms 540, 540A, 541, 541A, 542, and 542A. The forms were originally developed by the NRC at the request of low-level waste industry groups. The forms are intended to provide uniformity and efficiency in the collection of information contained in manifests which are required to control transfers of LLW intended for disposal at a land disposal facility. However, as stated in 10 CFR part 20, Appendix G, “Licensees need not use originals of these NRC Forms as long as any substitute forms are equivalent to the original documentation in respect to content, clarity, size, and location of information . . .” The NRC previously noticed the availability of revisions to the Uniform Low-Level Radioactive Waste Manifest Forms in the Federal Register on June 25, 2021 (86 FR 33783). The information collection contained in the current extension request does not include any material changes to the forms, except for: (1) changes to the Paperwork Reduction Act statement to indicate that licensees may use equivalent forms, and (2) the deletion of the expiration date.

Dated: November 17, 2022.
For the Nuclear Regulatory Commission.
David C. Cullison,
NRC Clearance Officer, Office of the Chief Information Officer.

[FR Doc. 2022-25485 Filed 11-22-22; 8:45 am]

BILLING CODE 7590-01-P